DEPARTMENT OF HOUSING AND URBAN DEVELOPMENT

[Docket No. FR-4630-C-02]

FY 2001 Super Notice of Funding Availability (SuperNOFA) for HUD's Housing, Community Development and Empowerment Programs and Section 8 Housing Voucher Assistance; Technical Corrections; Notification of E.O. 13202

AGENCY: Office of the Secretary, HUD.

ACTION: Super Notice of Funding Availability (SuperNOFA) for HUD Grant Programs; Technical Correction.

SUMMARY: On February 26, 2001, HUD published its Fiscal Year (FY) 2001 Super Notice of Funding Availability (SuperNOFA) for HUD's Housing, Community Development, and Empowerment Programs and Section 8 Housing Voucher Assistance. This document makes certain technical corrections to the general section of the SuperNOFA and to the following programs: Housing Counseling, HOPE VI, Economic Development Initiative (EDI); Brownfields Economic Development Initiative (BEDI); Continuum of Care; Housing Opportunities for Persons With AIDS (HOPWA); Youthbuild; Resident Opportunities and Self Sufficiency (ROSS) Program, Section 202 Supportive Housing for the Elderly Program, Section 811 Supportive Housing for Persons with Disabilities Program, and Assisted Living Conversion Program. This document also extends the application due date for Tribes and Tribally Designated Housing Entities (TDHEs) applying for funding under the ROSS Capacity Building and Conflict Resolution initiative.

DATES: Except for the extension of the application due date for Tribes and Tribally Designated Housing Entities (TDHEs) applying for funding under the ROSS Capacity Building and Conflict Resolution initiative, all application due dates remain as published in the Federal Register on February 26, 2001.

FOR FURTHER INFORMATION CONTACT: For the Programs listed in this notice, please contact the office or individual listed in the For Further Information heading in the individual program section of the SuperNOFA, published on February 26, 2001.

SUPPLEMENTARY INFORMATION: On February 26, 2001 (66 FR 11638), HUD published its Fiscal Year (FY) 2001 Super Notice of Funding Availability (SuperNOFA) for HUD's Housing, Community Development, and Empowerment Programs and Section 8 Housing Voucher Assistance. The FY 2001 SuperNOFA announced the availability of approximately $2.75 billion in HUD program funds covering 45 grant categories within programs operated and administered by HUD offices and Section 8 housing voucher assistance.

This notice published in today's Federal Register makes certain corrections and clarifications to the General Section of the SuperNOFA and to the funding availability announcements of the following programs: Economic Development Initiative (EDI); Brownfields Economic Development Initiative (BEDI); HOPE VI; Housing Counseling; Youthbuild; Resident Opportunities and Self Sufficiency (ROSS) Program, Assisted Living Conversion Program, Housing Opportunities for Persons With AIDS (HOPWA), Section 202 Supportive Housing for the Elderly Program and Section 811 Supportive Housing for Persons with Disabilities Program.

Summary of Technical Corrections

A summary of the technical corrections that will be made by this document are as follows: The page numbering shown in bracket identifies where the individual funding availability announcement that is being corrected can be found in the February 26, 2001 SuperNOFA, and the page numbering in parentheses identifies where the specific language that is being corrected can be found in the February 26, 2001 SuperNOFA.

General Section of SuperNOFA [Page 11636]

HUD corrects the Catalog of Federal Domestic Assistance Numbers (CFDA) for the Lead-Based Paint Hazard Control Program on the chart at page 11643 and the Healthy Homes Demonstration and Education Program at page 11644. The CFDA for the Lead-Based Paint Hazard Control Program should be 14.900. The CFDA for the Healthy Homes Demonstration and Education Program should be 14.901.

HUD also amends Section II (Requirements and Procedures Applicable to All Programs) by adding paragraph (L) to make the SuperNOFA consistent with Executive Order 13202 entitled, “Preservation of Open Competition and Government Neutrality Towards Government Contractors' Labor Relation on Federal and Federally Funded Construction Projects” (page 11652).

HUD also corrects Appendix A-2, List of EZs, ECs, Urban Enhanced Enterprise Communities, Strategic Planning Communities, (page 11658) to accurately reflect an Empowerment Zone in Upper Manhattan/Bronx (the Empowerment Zone was included, and the address was correct but was not identified as “Upper Manhattan/Bronx”) and to add the Strategic Planning Community in Brooklyn (page 11661). A certification that should have been filed with an application for this strategic planning community may still be filed and will be treated as a technical deficiency.

Housing Counseling [Page 11841]

HUD amends paragraph (A)(2) of Section VIII (Application Submission Requirements) to correct the fiscal year referenced in the section. More specifically, HUD is requesting information for the fiscal year beginning October 1, 1999 and ending September 30, 2000. (See page 11849). This section is also being corrected to note that applicants that did not participate in the Housing Counseling program during FY 2000 should report their counseling workload during this period. (See page 11849). HUD is also correcting paragraph (A)(3) of Section VIII (Application Submission Requirements) to inform applicants that they do not need to use the budget worksheet that HUD has provided in the past to submit their proposed budgets. (See page 11849).

HOPE VI [Page 11913]

HUD corrects the cross reference in paragraph (B)(2)(b)(ii) of Section II (Amount Allocated). (See page 11917). HUD amends Rating Factor 2, paragraph (2)(a) of Section VI (Revitalization Application Selection Process) in which the maximum number of points under the Impact on Neighborhoods was correctly listed as totaling 7 points, but the discussion of the factor indicates that the maximum number of points “you will receive is 4 to 6 points.” (See page 11931). HUD also amends Rating Factor 3, paragraph (7) of Section VI (Revitalization Application Selection Process) to make it consistent with Executive Order 13202 entitled, “Preservation of Open Competition and Government Neutrality Towards Government Contractors' Labor Relation on Federal and Federally Funded Construction Projects.” Specifically, HUD is eliminating the current reference to union sponsored apprenticeship programs and substituting “registered apprenticeship programs.” The correction also defines registered apprenticeship programs as programs that have been “registered with either a State Apprenticeship Agency recognized by the Department of Labor's Bureau of Apprenticeship and Training (BAT) or, if there is no recognized State agency, by the BAT.” (See page 11934).

Economic Development Initiative (EDI) [Page 12015]

HUD corrects Rating Factor 2, paragraph (2)(b)of Section V (Application Selection Process) in which the maximum number of points under the Unemployment sub-factor were correctly listed as totaling 15 under “Rating Factor 2: Distress/Extent of the Problem”, but the examples that followed incorrectly totaled a maximum of 10 points. (See page 12023).

Brownfields Economic Development Initiative (BEDI) [Page 12033]

HUD corrects section identifier errors in Rating Factor 2, Section V (The Application Selection Process) at page 12040. HUD also corrects Rating Factor 2, paragraph (2)(b) of Section V (Application Selection Process) in which the maximum number of points under the Unemployment sub-factor were correctly listed as totaling 15 under “Rating Factor 2: Distress/Extent of the Problem”, but the examples that followed incorrectly totaled a maximum of 10 points. (See page 12040).

Youthbuild [Page 12055]

HUD corrects the asterisked footnote to line 12 of exhibit 4A, Total Youthbuild Grant Budget, (page 12071) to note that administrative costs, consistent with Section III (A)(7) of the Youthbuild NOFA (page 12058), may not exceed 10 percent of the grant award. HUD also corrects Form 2C 13a: Housing Project Certification for Residential Rental Units, cited in Section IV(E) (Application Selection Process), to publish both pages of this required form. (See page 12075).

Resident Opportunities and Self Sufficiency (ROSS) Program [Page 12081]

HUD extends the due date for Tribes and Tribally Designated Housing Entities (TDHEs) applying for funding under the ROSS Capacity Building and Conflict Resolution initiative to June 20, 2001. HUD also clarifies the eligibility requirements for Tribes and Tribally Designated Housing Entities (TDHEs) applying for funding under the ROSS Capacity Building and Conflict Resolution initiative at page 12082.

Continuum of Care Homeless Assistance [Page 12207]

HUD corrects the chart in Appendix A that addresses “Eligible Populations” under the Section 8 SRO program. (See, page 12218). The chart should delete the second bullet providing “Section 8 eligible current occupants.” This correction conforms the program to the McKinney-Vento Act, which limits eligibility to homeless individuals, and Section IV (A)(1) (Program Requirements) of the Continuum of Care Homeless Assistance NOFA at page 12212.

Housing Opportunities for Persons With AIDS (HOPWA) [Page 12223]

HUD amends Section VI(A) (Application Submission Requirements) to correct a typographical error. Item 10 should read “Enter 14-241” and not “Enter 14-21.” (See page 12235). HUD also corrects Appendix D, the HOPWA Project Information Form, to reflect the 2001 Continuum of Care competition and not the 2000 competition. (See page 12255). Specifically, Part B of the HOPWA Project Information Form requires an applicant or project sponsor to indicate whether it is seeking funding under this HOPWA competition for an activity that is duplicated in an application under the HUD Continuum of Care Homeless Assistance 2001 competition. Additionally, HUD corrects paragraph 3 of Appendix D, HOPWA Applicant Certifications to provide that “It will not acquire, rehabilitate, convert, lease, repair or construct property to provide housing or commit HUD, State, local or other funds to program activities with respect to any eligible property until it has obtained HUD approval of form HUD-7015.15, “Request for Release of Funds and Certification” of compliance with the National Environmental Policy Act and implementing regulations at 24 CFR part 58 (Environmental Review Procedures for Entities Assuming HUD Environmental Responsibilities) or, in cases where HUD has performed the environmental review, the Applicant has obtained HUD approval of the site following HUD's completion of form HUD-4128.” (See page 12265).

Section 202 Supportive Housing for the Elderly Program [Page 12267]

HUD adds to the list of deficiencies that will be considered curable in a Section 202 application, the Exhibit 7(j), Certification of Consistency with the EZ/EC Strategic Plan (Form HUD 2990), but only in connection with applications involving sites in Brooklyn, New York, in the jurisdiction of the New York Multifamily Hub (see “Exhibits” under Section V on page 12276.) This change is necessary since Brooklyn was not included in the list of EZs, Ecs, Urban Enhanced Enterprise Communities, and Strategic Planning Communities for New York, New York in Appendix A-2 to the General Section of the SuperNOFA. As a result, applicants, proposing sites in this location will not otherwise have had sufficient time to obtain the necessary signature on Exhibit 7(j) in advance of the application deadline date. (See “Exhibits” under Section V on page 12276.)

Section 811 Supportive Housing for Persons With Disabilities [Page 12301]

HUD adds to the list of deficiencies that will be considered curable in a Section 811 application, the Exhibit 7(j), Certification of Consistency with the EZ/EC Strategic Plan (Form HUD 2990), but only in connection with applications involving sites in Brooklyn, New York, in the jurisdiction of the New York Multifamily Hub (see “Exhibits” under Section V on page 12310.) This change is necessary since Brooklyn was not included in the list of EZs, Ecs, Urban Enhanced Enterprise Communities, and Strategic Planning Communities for New York, New York in Appendix A-2 to the General Section of the SuperNOFA. As a result, applicants, proposing sites in this location will not otherwise have had sufficient time to obtain the necessary signature on Exhibit 7(j) in advance of the application deadline date.

Assisted Living Conversion Program (ALCP) for Eligible Multifamily Projects [Page 12339]

HUD corrects the e-mail address for a contact persons on page 12341, second column, under the fifth full paragraph. HUD also amends paragraph (B)(11) of Section III (Program Description: Eligible and Ineligible Applicants, Developments and Activities) for clarity. (See page 12343). HUD also corrects paragraph (D) of Section III (Program Description: Eligible and Ineligible Applicants, Developments and Activities) to clarify the eligibility of Section 236 developments. (See page 12343).

Accordingly, in the Super Notice of Funding Availability for Housing, Community Development, and Empowerment Programs and Section 8 Housing Voucher Assistance for Fiscal Year 2001, FR Doc. 01-4439, beginning at 66 FR 11638, in the issue of Friday, February 26, 2001, the following corrections are made:

1. General Section of SuperNOFA, Beginning at 66 FR 11638

• On page 11643, the CFDA Number in the box labeled Lead-Based Paint Hazard Control Program should be 14.900.

• On page 11644, the CFDA Number in the box labeled Healthy Homes Demonstration and Education Program should be 14.901.

• On page 11652, paragraph (L) should be added to read as follows:

(L) Consistent with Executive Order 13202, neither you nor any subrecipient or program beneficiary receiving funds under an award granted pursuant to this SuperNOFA, nor any construction manager acting on behalf of you or any such subrecipient or program beneficiary, may require bidders, offerors, contractors, or subcontractors to enter into or adhere to any agreement with any labor organization on any construction project funded in whole or in part by such award or on any related construction project; or prohibit bidders, offerors, contractors, or subcontractors from entering into or adhering to any such agreement on any such construction project; or otherwise discriminate against bidders, offerors, contractors, or subcontractors on any such construction project because they become or refuse to become or remain signatories or otherwise to adhere to any such agreements. Contractors and subcontractors are not prohibited from voluntarily entering into such agreements.

• On page 11661, second column, the list of EZs, ECs, Urban Enhanced Enterprise Communities, Strategic Planning Communities for New York, New York, should read as follows:

NY, New York

Empowerment Zone (Upper Manhattan/Bronx)

Mr. Marion Phillips, III, New York Empowerment Zone Corp., 633 Third Avenue, 32nd Floor, New York, NY 10017, 212-803-3240 (Phone), 212-803-3294 (Fax)

Strategic Planning Community (Brooklyn)

Ms. June Van Brackle, Mayor's Office of the New York City EZ, 100 Gold St., 2nd Floor, New York, NY 10038, 212-788-6777 (Phone), 212-788-2718 (Fax)

2. Housing Counseling Program, Beginning at 66 FR 11841

• On page 11849, second column, HUD amends paragraph (A)(2) of Section VIII to read as follows:

(2) Form HUD-9902, Housing Counseling Agency Fiscal Year Activity Report for fiscal year October 1, 1999 through September 30, 2000.

If you did not participate in HUD's Housing Counseling program during FY 2000, this report should be completed to reflect your counseling workload during that period.

• On page 11849, second column, HUD amends paragraph (A)(3) of Section VIII to read as follows:

(3) Budget Work Sheet. A proposed budget for use of the requested HUD funds. Applicants need not, however, use the budget worksheet that HUD has provided in the past to submit their proposed budgets.

3. HOPE VI Program, Beginning at 66 FR 11913

• On page 11917, second column, HUD corrects paragraph (B)(2)(b)(ii) of Section II (Amount Allocated) to read as follows:

(ii) At least half of the funds requested for relocation must be used to provide mobility counseling and other services to promote the self-sufficiency of displaced residents and must be matched by non-HOPE VI funds in accordance with Section IV(F)(2) of this HOPE VI section of the SuperNOFA below.

• On page 11931, second column, HUD amends Rating Factor 2, paragraph (2)(a) of Section VI (Revitalization Application Selection Process) to read as follows:

(a) you will receive 4 to 7 points if you demonstrate that revitalization of the severely distressed project if you demonstrate that revitalization of the severely distressed project with HOPE VI funds will significantly improve the overall health of the neighborhood and spur outside investment into the surrounding community.

• On page 11934, first column, HUD amends Rating Factor 3, paragraph (7) of Section VI (Revitalization Application Selection Process) to read as follows:

(7) Apprenticeship Program: 2 Points. As described in Section VI(1) of the General Section, Bridging the Gap is a program in which HUD encourages you to assist public housing residents in obtaining construction apprenticeships. This will involve working with registered apprenticeship sources to provide entry level apprenticeships in construction, construction-related, and maintenance activities. A registered apprenticeship program is a program which has been registered with either a State Apprenticeship Agency recognized by the Department of Labor's Bureau of Apprenticeship and Training (BAT) or, if there is no recognized State agency, by the BAT. See also DOL regulations at 29 CFR Part 29.

(a) You will receive 2 points if you propose to implement a program that offers apprenticeships to residents or relocated residents of the targeted development. You must identify the registered apprenticeship source(s) you will work with and the number and types of jobs for which apprenticeships can be obtained.

(b) You will receive 0 points if:

(i) your program does not propose to assist residents in obtaining construction, construction-related, or maintenance-related apprenticeships, or

(ii) there is not enough information in your application to enable HUD to rate this factor.

4. Economic Development Initiative (EDI) Program, Beginning at 66 FR 12015

• On page 12023, first column, Factor 2, paragraph (2)(b) of Section V (Application Selection Process) to read as follows:

(b) Unemployment (15 points)—for both the project area and jurisdiction; an application that compares the local unemployment rate in the following manner to the national average at the time of submission will receive points under this Section as follows:

(i) Equal to but less than twice the national average—3 points;

(ii) Twice but less than three times the national average—6 points;

(iii) Three but less than four times the national average—9 points;

(iv) Four but less than five times the national average—12 points;

(v) Five or more times the national average—15 points.

5. Brownfields Economic Development Initiative (BEDI) Program, Beginning at 66 FR 12035

• On page 12040, first column, the formerly undesignated second, third, and fourth paragraphs under Rating Factor (2): Distress/Extent of the Problem (40 points), should read as follows: (1) In applying this factor, HUD will consider current levels of distress for the following areas affected by the project: first, in the area (i.e., Census Tract(s) or Block Groups) immediately surrounding the project site or the target area to be served by the proposed project; second, in the jurisdiction in which the project is to be located; third, relative to the similar measures of distress in the nation. Applicants may also provide data for the overall jurisdiction alongside comparable jurisdictions in the county and state, as appropriate to the activity, in order to demonstrate the various levels of distress in context. This means that an application that provides data that show levels of distress in the project area and the jurisdiction expressed as a percent greater than the national average will be rated higher under this Factor.

Notwithstanding the above, an applicant proposing a project to be located outside the target area could still receive points under the Distress factor if a clear rationale is provided linking the proposed project location and the benefits to be derived by persons living in more distressed area(s) of the applicant's jurisdiction.

(2) Applicants should provide data that address all indicators of distress, if applicable, as follows: (a) Poverty rate (20 points)—data should be provided in both absolute and percentage form (i.e., whole numbers and percents) for both the target area(s) and the jurisdiction as a whole; an application that compares the local poverty rate in the following manner to the national average at the time of submission will receive points under this section as follows:

Equal to but less than twice the national average—5 points;

Twice but less than three times the national average—10 points;

Three or more times the national average—20 points.

• On page 12040, second column, Rating Factor 2, paragraph (2)(b) of Section V (Application Selection Process) to read as follows:

(b) Unemployment (15 points)—for both the project area and jurisdiction; an application that compares the local unemployment rate in the following manner to the national average at the time of submission will receive points under this Section as follows:

(i) Equal to but less than twice the national average—3 points;

(ii) Twice but less than three times the national average—6 points;

(iii) Three but less than four times the national average—9 points;

(iv) Four but less than five times the national average—12 points;

(v) Five or more times the national average —15 points.

6. Youthbuild Program, Beginning at 66 FR 12055

• On page 12071, the asterisked footnote to line 12 of Exhibit 4A to read that “Request may not exceed 10% of Youthbuild subtotal (line 11).”

• On page 12075, the Form 2C 13a: Housing Project Certification for Residential Rental Units, is corrected to read as follows:

7. Resident Opportunities and Self Sufficiency (ROSS) Program, Beginning at 66 FR 12081

• On page 12081, first column, fourth paragraph under Program Overview, should read as follows:

Application Deadline. May 24, 2001, for Resident Management and Business Development; May 24, 2001, for Capacity Building or Conflict Resolution for all applicants except that Tribes and Tribally Designated Housing Entities (TDHEs). For Tribes/TDHEs applications will be due June 20, 2001. June 26, 2001, for Resident Service Delivery Models; and

After publication of this SuperNOFA, Service Coordinator grant renewals under the Service Coordinator category will be accepted until all funds are awarded or June 28, 2001, whichever occurs first.

• On page 12081, first column, first paragraph under Section I (Application Due Date, Application Kits, Further Information and Technical Assistance) should read as follows:

Application Due Date: Your completed application (one original and two copies) is due on or before 12:00 midnight, Eastern time, on the following application due dates to HUD Headquarters at the address shown below.

May 24, 2001, for Resident Management and Business Development;

May 24, 2001, for Capacity Building or Conflict Resolution for all applicants except that Tribes and Tribally Designated Housing Entities (TDHEs). For Tribes/TDHEs applications will be due June 20, 2001.

June 26, 2001, for Resident Service Delivery Models; and

After publication of this SuperNOFA, Service Coordinator grant renewals under the Service Coordinator category will be accepted until all funds are awarded or June 28, 2001, whichever occurs first.

• On page 12082, first column, paragraph (C)(b)(iii) under Section II (Amount Allocated) should read as follows:

(iii) The maximum amounts for CB/CR are as follows: $100,000 for City-Wide Resident Organizations (CWROs) per applicant, and $240,000 per applicant for all other eligible applicants in these funding categories. Applicants are required to allocate at least two-thirds of the total grant to direct funding of CB or CR activities for Site-Based Resident Associations (RAs) and/or Tribal ROs. Tribes/TDHEs may serve a single tribal RO. CWROs are required to serve a minimum of three RAs. All other applicants are required to serve a minimum of 10 RAs.

8. Continuum of Care Homeless Assistance Program, Beginning at 66 FR 12207

On page 12218, the field of the chart in Appendix A that addresses “Eligible Populations” under the Section 8 SRO program is corrected to eliminate the second bullet providing “Section 8 eligible current occupants.” (The first bullet providing “Homeless individuals” is correct.)

9. Housing Opportunities for Persons With AIDS (HOPWA) Program, Beginning at 66 FR 12225

• On page 12235, second column, HUD corrects Section VI(A) (Application Submission Requirements) to read as follows:

Item 10—Enter 14-241 and the title “Housing Opportunities for Persons with AIDS” or “HOPWA” for the Catalogue of Federal Domestic Assistance.

• On page 12255, HUD corrects paragraph B of Appendix D, the HOPWA Project Information Form, to read as follows:

B. Duplication of Assistance Requested. Please indicate if your applicant or a project sponsor is seeking funding under this HOPWA competition for an activity that is duplicated in an application under the HUD Continuum of Care Homeless Assistance 2001 competition as follows:

• On page 12265, HUD corrects paragraph 3 of Appendix D, HOPWA Applicant Certifications to read as follows:

3. It will not acquire, rehabilitate, convert, lease, repair or construct property to provide housing or commit HUD, State, local or other funds to program activities with respect to any eligible property until it has obtained HUD approval of form HUD-7015.15, “Request for Release of Funds and Certification” of compliance with the National Environmental Policy Act and implementing regulations at 24 CFR part 58 (Environmental Review Procedures for Entities Assuming HUD Environmental Responsibilities) or, in cases where HUD has performed the environmental review, the Applicant has obtained HUD approval of the site following HUD's completion of form HUD-4128.

10. Section 202 Supportive Housing for the Elderly Program, Beginning at 66 FR 12267

On page 12276, second column, the list of Exhibits under Section V (Application Selection Process) is amended by adding the following new item (j):

(j) Certification of Consistency with the EZ/EC Strategic Plan (Form HUD 2990) (Only for applications with sites to be located in Upper Manhattan/Bronx and Brooklyn).

11. Section 811 Supportive Housing for Persons With Disabilities Program, Beginning at 66 FR 12301

On page 12310, second and third columns, the list of Exhibits under Section V (Application Selection Process) is amended by adding the following new item (j):

(j) Certification of Consistency with the EZ/EC Strategic Plan (Form HUD 2990) (Only for applications with sites to be located in Upper Manhattan/Bronx and Brooklyn).

12. Assisted Living Conversion Program (ALCP) for Eligible Multifamily Projects, Beginning at 66 FR 12341

• On page 12341, second column, under the fifth paragraph under “For Further Information and Technical Assistance” the third sentence is corrected to read as follows:

For Further Information and Technical Assistance. You should contact the Multifamily Hub where you will be mailing your ALCP Application. (Please refer to Hub telephone numbers in Appendix A.)

You also may contact Aretha Williams, Director, Grant Policy and Management Division, Room 6138, at (202)-708-3000 x2480 or Faye Norman, Housing Project Manager at (202) 708-3000 x2482 for questions regarding the ALF process. This is not a toll free number. Ms. Williams can be reached, by e-mail at aretha_m._williams@hud.gov and Ms. Norman at faye_l._norman@hud.gov. Both Ms. Williams and Ms. Norman are located at the Department of Housing and Urban Development, 451 Seventh Street, SW., Washington, DC 20410.

If you have a hearing or speech impairment, you may access the telephone number via TTY by calling the Federal Information Relay Service at 1 800-877-8339.

• On page 12343, first column, HUD corrects paragraph (B)(11) of Section III (Program Description: Eligible and Ineligible Applicants, Developments and Activities) to read as follows:

(11) Upon receipt of a grant under this program, all project owners participating in the ALCP must provide a Declaration of Restrictive Covenants (DRC), which will be recorded with the land, to retain the low income character of the housing, and to maintain the project (including the ALF), as a moderate, low, or very low income facility (as appropriate) for at least 20 years beyond the current 40-to-50 year term of the mortgage loan or capital advance. If you are going to use grant funds to convert unused or underutilized commercial property you must provide a DRC for at least a 20-year period or for the term of the mortgage on the property whichever is longer.

• On page 12343, third column, HUD also corrects paragraph (D) of Section III (Program Description: Eligible and Ineligible Applicants, Developments and Activities) to read as follows:

(D) Eligible Developments. (1) Section 202 projects, Section 202 projects receiving rental assistance under Section 8, and Section 202 projects receiving project rental assistance under Section 202(C)(2). Rural housing projects assisted under Section 515 of the Housing Act of 1949 receiving Section 8 rental assistance are also included. Projects receiving project-based rental assistance under Section 8, among others, include housing constructed, substantially rehabilitated or receiving moderate rehabilitation assistance under Section 8. Housing financed by a below-market interest rate loan or mortgage insured under Section 221(d)(3) of the National Housing Act; and housing insured, assisted or held by HUD, or a State or State Agency under Section 221(d)(3) of the National Housing Act; and housing insured, assisted or held by HUD, or a State or State Agency under Section 236 of the National Housing Act are also included. These housing projects must have been designated primarily for occupancy by elderly persons, been in occupancy for at least five years from the date the HUD-92485 Form entitled “Permission to Occupy Project Mortgages” was issued and Final Closing must have been completed. Your project must:

Dated: May 16, 2001.
Sean G. Cassidy,
General Deputy Assistant Secretary for Housing.
Donna M.Abbenante,
General Deputy Assistant Secretary for Community Planning and Development.
Gloria J. Cousar,
Acting General Deputy Assistant Secretary for Public and Indian Housing.

[FR Doc. 01-12794 Filed 5-18-01; 8:45 am]

BILLING CODE 4210-32-P